FEDERAL COMMUNICATIONS COMMISSION

47 CFR Part 1

[WC Docket No. 19-195, DA 22-543; FR ID 88208]

Broadband Data Task Force, Wireless Telecommunications Bureau, Wireline Competition Bureau, and Office of Economics and Analytics Seek Comment on Competitive Carriers Association Petition for Declaratory Ruling or Limited Waiver Regarding the Requirement for a Certified Professional Engineer To Certify Broadband Data Collection Maps

AGENCY: Federal Communications Commission.

ACTION: Petition for Declaratory Ruling and Limited Waiver; request for comments.

SUMMARY: In this document, the Broadband Data Task Force (BDTF), Wireless Telecommunications Bureau (WTB), the Wireline Competition Bureau (WCB), and the Office of Economics and Analytics (OEA) seek comment on a Petition for Declaratory Ruling or Limited Waiver filed by the Competitive Carriers Association (CCA) requesting that the Commission issue a declaratory ruling to clarify that Broadband Data Collection (BDC) filings may be certified by a qualified professional engineer or an otherwise-qualified engineer that is not a licensed professional engineer accredited by a state licensure board.

DATES: Comments are due on or before June 8, 2022. Reply Comments are due on or before June 15, 2022.

ADDRESSES: You may submit comments, identified by WC Docket No. 19-195, by any of the following methods:

• Electronic Filers: Comments may be filed electronically using the internet by accessing the ECFS: https://www.fcc.gov/ecfs.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19.

People with Disabilities. To request materials in accessible formats for people with disabilities (braille, large print, electronic files, audio format), send an email to fcc504@fcc.gov or call the Consumer & Government Affairs Bureau at 202-418-0530 (voice, 202-418-0432 (tty).

FOR FURTHER INFORMATION CONTACT: Will Holloway, William.Holloway@fcc.gov, Wireless Telecommunications Bureau, or Kirk Burgee, Kirk.Burgee@fcc.gov, Wireline Competition Bureau.

SUPPLEMENTARY INFORMATION: This is a summary of the Commission's Public Notice in WC Docket No 19-195, DA 22-543, released on May 17, 2022. The full text of this document is available for public inspection and can be downloaded at https://www.fcc.gov/document/bdtf-wtb-wcb-and-oea-seek-comment-petition-filed-cca or by using the Commission's ECFS web page at www.fcc.gov/ecfs.

Ex Parte Rules

This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml., .ppt, searchable .pdf). Participants in this proceeding should familiarize themselves with the Commission's ex parte rules.

Synopsis

On May 13, 2022, the Competitive Carriers Association (CCA) filed a Petition for Declaratory Ruling or Limited Waiver asking the Commission to clarify that Broadband Data Collection (BDC) filings may be certified by a qualified professional engineer or an otherwise-qualified engineer that is not a licensed professional engineer accredited by a state licensure board. The Commission's rules require that an engineer review and certify the accuracy of the broadband availability data submitted by mobile and fixed providers as part of the BDC. In particular, the Commission requires each mobile and fixed service provider to include certifications as to the accuracy of its data submissions by a certified professional engineer or corporate engineering officer, in which the engineer certifies “that he or she has examined the information contained in the submission and that, to the best of the engineer's actual knowledge, information, and belief, all statements of fact contained in the submission are true and correct and in accordance with the service provider's ordinary course of network design and engineering.” This certification is in addition to the corporate officer certification required by the Broadband DATA Act. For government and other third-party entities that submit verified broadband availability data, the engineering certification must also include a certification by a certified professional engineer that he or she is employed by the government or other third-party entity submitting the verified broadband availability data and has direct knowledge of, or responsibility for, the generation of the government or other entity's Broadband Data Collection coverage maps.

In its petition, CCA asserts that the “experience and expertise developed by [Radio Frequency (RF)] engineers through their work provides comprehensive skills relevant to broadband deployment [and] provides skills comparable to, and perhaps more relevant than, general licensure through the PE . . . exam process.” CCA therefore requests that the Commission clarify that the requirement in 47 CFR 1.7004(d) that all providers must include as part of their BDC filing a certification of the accuracy of its submissions by a certified professional engineer may be completed by either a licensed professional engineer or an otherwise qualified engineer who possesses the appropriate engineering expertise but does not hold a professional engineer license. Additionally, CCA requests that the Commission clarify that the term “corporate engineering officer” may be any employee who has “direct knowledge” and is “responsible for” the carrier's network design and construction and who possesses a Bachelor of Science degree in Engineering. Alternatively, CCA requests a limited waiver of the requirement that BDC data be certified by a licensed professional engineer, and instead allow mobile providers to certify their data with an RF engineering professional with specified qualifications that are directly relevant to broadband availability assessment. CCA recommends that if the Commission seeks to specify qualification standards or requirements for engineers to certify broadband availability, it should adopt standards that specifically relate to broadband availability assessment, such as academic and employment experience, RF and propagation modeling experience, and knowledge relevant to wireless carriers' networks.

Federal Communications Commission.
Amy Brett,
Acting Chief of Staff, Wireless Telecommunications Bureau.

[FR Doc. 2022-11193 Filed 5-24-22; 8:45 am]

BILLING CODE 6712-01-P